DEPARTMENT OF STATE

[Public Notice 5599]

Determination on U.S. Position on Proposed European Bank for Reconstruction and Development (EBRD) Regional Project To Include Serbia and Bosnia and Herzegovina

Pursuant to section 561 of the Foreign Operations, Export Financing, and Related Programs Appropriations Act, 2006 (Pub. L. 109-102) (FOAA), and Department of State Delegation of Authority Number 289, I hereby determine that the proposed regional project, an up to 105 euro investment in Europolis 3, a regional commercial real estate equity investment program that will invest up to 25% of its capital into Serbia, Bosnia and Herzegovina, Bulgaria, Macedonia, and Montenegro, will contribute to a stronger and more integrated economy in the Balkans and directly support implementation of the Dayton Accords. I therefore waive the application of Section 561 of the FOAA to the extent that provision would otherwise prevent the U.S. Executive Directors of the EBRD from voting in favor of this project.

This Determination shall be reported to the Congress and published in the Federal Register.

Dated: September 15, 2006.
Daniel Fried,
Assistant Secretary of State for European and Eurasian Affairs, Department of State.

[FR Doc. E6-18303 Filed 10-30-06; 8:45 am]

BILLING CODE 4710-23-P